DEPARTMENT OF COMMERCE

International Trade Administration

[A-427-820, A-428-830, A-475-829, A-580-847, A-412-822]

Notice of Amended Antidumping Duty Orders: Stainless Steel Bar From France, Germany, Italy, Korea, and the United Kingdom

AGENCY: Import Administration, International Trade Administration, Department of Commerce.

ACTION: Notice of amended antidumping duty orders.

EFFECTIVE DATE: October 10, 2003.

FOR FURTHER INFORMATION CONTACT: Andrew Smith or John Brinkmann, (202) 482-1276 or (202) 482-4126, respectively; Import Administration, International Trade Administration, U.S. Department of Commerce, 14th Street and Constitution Avenue, NW., Washington, DC 20230.

Summary

The Department of Commerce is amending its antidumping duty orders in these investigations to bring them into compliance with section 733(d) of the Tariff Act of 1930, as amended. Specifically, these antidumping duty orders are amended to state that the suspension of liquidation ordered in the preliminary determinations in these investigations shall be discontinued for subject merchandise entered on or after January 29, 2002, through March 7, 2002.

Scope of Order

For purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The stainless steel bar subject to this investigation is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of this investigation is dispositive.

Background

On August 2, 2001, the Department of Commerce (“the Department”) preliminarily determined that stainless steel bar from France, Germany, Italy, Korea, and the United Kingdom was being sold in the United States at less than fair value (“LTFV”), as provided in section 735(a) of the Tariff Act of 1930, as amended (“the Act”). See 66 FR 40201 (August 2, 2001) for France; 66 FR 40208 (August 2, 2001) for Germany; 66 FR 40214 (August 2, 2001) for Italy; 66 FR 40222 (August 2, 2001) for Korea; 66 FR 40192 (August 2, 2001) for the United Kingdom (collectively “the SSBar Preliminary Determinations”)

Due to scheduling problems evolving from the events of September 11, 2001, the Department tolled the final determination deadlines in these investigations until January 15, 2002. On January 15, 2002, the Department determined that stainless steel bar from France, Germany, Italy, Korea, and the United Kingdom was being sold in the United States at LTFV, as provided in section 735(a) of the Act. See 67 FR 3143 (January 23, 2002) for France; 67 FR 3159 (January 23, 2002) for Germany; 67 FR 3155 (January 23, 2002) for Italy; 67 FR 3149 (January 23, 2002) for Korea; 67 FR 3146 (January 23, 2002) for the United Kingdom (collectively “the SSBar Final Determinations”). The Department subsequently amended the final determination of the antidumping duty investigation of stainless steel bar from Germany to correct ministerial errors. See 67 FR 10382 (March 7, 2002).

On February 28, 2002, the International Trade Commission (“ITC”) notified the Department of its final determinations pursuant to Section 735(b)(1)(A)(i) of the Act that an industry in the United States is materially injured by reason of LTFV imports of subject merchandise from France, Germany, Italy, Korea, and the United Kingdom. The ITC published its final affirmative injury determination on March 8, 2002. See 67 FR 10756 (March 8, 2002). Accordingly, the Department issued Antidumping Duty Orders in which it directed the U.S. Bureau of Customs and Border Protection (“BCBP”) to assess, upon further advice by the Department, antidumping duties equal to the amount by which the normal value of the merchandise exceeded the export price or constructed export price of the merchandise for all relevant entries of stainless steel bar from France, Germany, Italy, Korea, and the United Kingdom. See 67 FR 10385 (March 7, 2002) for France; 67 FR 10382 (March 7, 2002) for Germany; 67 FR 10384 (March 7, 2002) for Italy; 67 FR 10381 for Korea; 67 FR 10381 (March 7, 2002) for the United Kingdom (collectively “the SS Bar AD Orders”). The Department directed the BCBP to assess antidumping duties on all unliquidated entries of imports of the subject merchandise that are entered, or withdrawn from warehouse, for consumption on or after August 2, 2001, the date on which the Department published its SS Bar Preliminary Determinations in the Federal Register.

Amended Antidumping Duty Orders

The SS Bar Orders incorrectly stated that antidumping duties will be assessed on all unliquidated entries of imports of the subject merchandise that are entered, or withdrawn from warehouse, for consumption on or after August 2, 2001, the date on which the Department published its notices of affirmative preliminary determinations in the Federal Register. Section 733(d) of the Act states that instructions issued pursuant to an affirmative preliminary determination “may not remain in effect for more than 4 months” except where, as was the case in these investigations, “exporters representing a significant proportion of exports of the subject merchandise, extend that 4-month period to not more than 6 months.” In these SS Bar investigations, January 29, 2002, is 6 months from the date of publication of the SS Bar Preliminary Determinations. Furthermore, section 737 of the Act states that definitive duties are to begin on the date of publication of the ITC's final injury determination, March 8, 2002. Accordingly, except as otherwise noted below, the SS Bar AD Orders are amended to state that:

These antidumping duties will be assessed on all unliquidated entries of stainless steel bar from France, Germany, Italy, Korea, and the United Kingdom entered, or withdrawn from warehouse, for consumption on or after August 2, 2001, the date of the publication of the SS Bar Preliminary Determinations in the Federal Register. In accordance with section 733(d) of the Act, we will instruct the BCBP to terminate the suspension of liquidation and to liquidate, without regard to antidumping duties, unliquidated entries of stainless steel bar from France, Germany, Italy, Korea and the United Kingdom entered, or withdrawn from warehouse, for consumption on or after January 29, 2002, through and including March 7, 2002. Suspension of liquidation will continue on or after March 8, 2002.

Any liquidation instructions issued to the BCBP will exclude entries that have been enjoined from liquidation. Therefore, instructions will not be issued covering enjoined entries of stainless steel bar from Italy and the United Kingdom, until either the conclusion of the ongoing litigation with respect to the final determination, pursuant to which these entries have been enjoined from liquidation, or the injunction in those cases are lifted or amended to allow liquidation of those entries. See Slater Steels Corp. v. United States, Consol. Court. No. 02-00189; Corus Engineering Steels Ltd. v. United States, Court No. 02-00283.

This notice constitutes the amended antidumping duty order with respect to stainless steel bar from France, Germany, Italy, Korea, and the United Kingdom, pursuant to section 736(a) of the Act. Interested parties may contact the Department's CRU for copies of an updated list of antidumping duty orders currently in effect.

This amended order is published in accordance with section 736(a) of the Act and 19 CFR 351.211.

Dated: October 3, 2003.
James J. Jochum,
Assistant Secretary for Import Administration.

[FR Doc. 03-25772 Filed 10-9-03; 8:45 am]

BILLING CODE 3510-DS-P